DEPARTMENT OF TRANSPORTATION

Federal Aviation Administration

Sixth Meeting: RTCA Tactical Operations Committee (TOC)

AGENCY: Federal Aviation Administration (FAA), U.S. Department of Transportation (DOT).

ACTION: Sixth Meeting Notice of RTCA Tactical Operations Committee.

SUMMARY: The FAA is issuing this notice to advise the public of the sixth meeting of the RTCA Tactical Operations Committee.

DATES: The meeting will be held September 3, 2014 from 10:00 a.m.-4:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org or Trin Mitra, TOC Secretary, tmitra@rtca.org, 202-330-0655.

SUPPLEMENTARY INFORMATION: Pursuant to section 10(a) (2) of the Federal Advisory Committee Act (Pub. L. 92-463, 5 U.S.C., App.), notice is hereby given for a meeting of the RTCA Tactical Operations Committee. The agenda will include the following:

September 3

• Opening of Meeting/Introduction of TOC Members

○ Co-Chairs Mr. Jim Bowman, FedEx Express, and Mr. Dale Wright, National Air Traffic Controllers Association (NATCA)

• Official Statement of Designated Federal Official

○ Ms. Elizabeth Ray, FAA Air Traffic Organization, Vice President Mission Support

• Approval of May 16, 2014 Meeting Summary

• FAA Report

• Review Industry Ideas for Future TOC work

• Discussion on Regional Task Groups

○ Updates from each group, discussion on role of RTGs

• Update from NextGen Integration Working Groups

• Review new task ideas for TOC

○ Airport construction and safety risk, South Florida/Caribbean operations, “Review, Revise, Remove (Three Rs)” for Right Sizing Procedures in the NAS, Others

• Update from NOTAM Task Group

○ FAA and NOTAM Task Group review 16 month implementation roadmap for NOTAM Search and role of the NOTAM Task Group

• Update from VHF Omni-directional Range (VOR) Minimum Operating Network Task Group

○ Report on Outreach and Modifications Required by VOR MON and Update from FAA on PBN Route Strategy

• Anticipated Issues for TOC consideration and action at the next meeting

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 14, 2014.
Mohannad Dawoud,
Management Analyst, NextGen, Business Operations Group, Federal Aviation Administration.

[FR Doc. 2014-19693 Filed 8-18-14; 8:45 am]

BILLING CODE 4910-13-P